DEPARTMENT OF DEFENSE

Office of the Secretary

32 CFR Part 199

RIN 0720-AA28

TRICARE; Revisions to Coverage Criteria for Transplants, Cardiac and Pulmonary Rehabilitation and Ambulance Services

AGENCY: Office of the Secretary, DoD.

ACTION: Final rule; administrative correction.

SUMMARY: The Department of Defense published a final rule in the Federal Register of Tuesday, June 25, 2002 (67 FR 42717) on Revisions to Coverage Criteria for Transplants, Cardiac and Pulmonary Rehabilitation and Ambulance Services. This document makes an administrative correction to that document.

DATES: This final rule is effective July 25, 2002, except § 199.4(e)(21) is effective August 12, 2002.

ADDRESSES: TRICARE Management Activity (TMA), Medical Benefits and Reimbursement Systems, 16401 East Centretech Parkway, Aurora, CO 80011-9043.

FOR FURTHER INFORMATION CONTACT: Marty Maxey, Medical Benefits and Reimbursement Systems, (TMA) telephone (303) 676-3627.

SUPPLEMENTARY INFORMATION: An interim final rule on Sub-Acute Care Program; Uniform Skilled Nursing Facility Benefit; Home Health Care Benefit; Adopting Medicare Payment Methods for Skilled Nursing Facilities and Home Health Care Providers was published on Thursday, June 13, 2002 (67 FR 40597) added a new § 199.4(e)(21) on home health services. A final rule on Revisions to Coverage Criteria for Transplants, Cardiac and Pulmonary Rehabilitation and Ambulance Services was published on June 25, 2002 (67 FR 42717) also added a new § 199.4(e)(21) on Pulmonary rehabilitation. This document corrects the paragraph designation.

In FR Doc 02-15913 published on June 25, 2002 (67 FR 41721) make the following correction: On page 41721, in the second column, redesignate paragraph (e)(21) as paragraph (e)(22).

Dated: June 27, 2002.
L.M. Bynum,
Alternate Federal Register Liaison Officer, Department of Defense.

[FR Doc. 02-17035 Filed 7-8-02; 8:45 am]

BILLING CODE 5001-08-M